DEPARTMENT OF ENERGY

Proposed Agency Information Collection

AGENCY: U.S. Department of Energy.

ACTION: Notice and Request for OMB Review and Comment.

SUMMARY: The Department of Energy (DOE) has submitted to the Office of Management and Budget (OMB) for clearance, a proposal for collection of information under the provisions of the Paperwork Reduction Act of 1995. The proposed collection will support the administration and enforcement of the Department of Energy's regulations, issued pursuant to section 705 of the Defense Production Act of 1950 as amended (EPAS regulation). The collection assures the availability of records for at least 3 years of transactions that are directly related to the placement of contracts or purchase orders under the EPAS regulation by contractors with suppliers to acquire items (materials, products, and services) needed to fill defense orders. Such records would include administrative, accounting, purchasing, scheduling, production, and shipping records, the receipt and acceptance or rejection of contractors' orders by suppliers, and any other relevant and material record to evidence the timely production and delivery of items.

DATES: Comments regarding this collection must be received on or before August 23, 2017. If you anticipate that you will be submitting comments, but find it difficult to do so within the period of time allowed by this notice, please advise the DOE Desk Officer at OMB of your intention to make a submission as soon as possible. The Desk Officer may be telephoned at 202-395-4650.

ADDRESSES: Written comments should be sent to the DOE Desk Officer, Office of Information and Regulatory Affairs, Office of Management and Budget, New Executive Office Building, Room 10102, 735 17th Street NW., Washington, DC 20503.

And to Jeff Baumgartner, U.S. Department of Energy, OE-30, 1000 Independence Avenue SW., Washington, DC 20585 or by fax at 202-586-2623, or by email at Jeffrey.Baumgartner@hq.doe.gov.

FOR FURTHER INFORMATION CONTACT: Written comments may be sent to Jeff Baumgartner, U.S. Department of Energy, OE-30, 1000 Independence Avenue SW., Washington, DC 20585 or by fax at 202-586-2623, or by email at Jeffrey.Baumgartner@hq.doe.gov.

SUPPLEMENTARY INFORMATION: This information collection request contains: (1) OMB No. 1910-5159; (2) Information Collection Request Title: Energy Priorities and Allocations System; (3) Type of Request: Extension; (4) Purpose: To meet requirements of the Defense Production Act (DPA) priorities and allocations authority with respect to all forms of energy necessary or appropriate to promote the national defense. Data supplied will be used to evaluate applicants requesting special priorities assistance to fill a rate order issued pursuant to the DPA and DOE's implementing regulations at 10 CFR part 217. This data will also be used to conduct audits and for enforcement purposes. This collection will only be used if the Secretary of Energy determines that his authority under the DPA is necessary to maximize domestic energy supplies or to address an energy shortage. The last collection by DOE under this authority was in 2001; (5) Annual Estimated Number of Respondents: 10 or more as this collection is addressed to a substantial majority of the energy industry; (6) Annual Estimated Number of Total Responses: 10 or more as this collection is addressed to a substantial majority of the energy industry; (7) Annual Estimated Number of Burden Hours: 32 minutes per response; (8) Annual Estimated Reporting and Recordkeeping Cost Burden: $0.

Statutory Authority: Defense Production Act of 1950 as amended (50 U.S.C. 4501 et seq.); Executive Order 13603.

Issued in Washington, DC on July 11, 2017.
Devon Streit,
Deputy Assistant Secretary, Office of Electricity Delivery and Energy Reliability.

[FR Doc. 2017-15459 Filed 7-21-17; 8:45 am]

BILLING CODE 6450-01-P